DEPARTMENT OF HOMELAND SECURITY

Federal Emergency Management Agency

[Docket ID: FEMA-2012-0020; OMB No. 1660-0009]

Agency Information Collection Activities: Submission for OMB review; Comment Request; The Declaration Process: Requests for Damage Assessment, Federal Disaster Assistance, Appeals, Cost Share Adjustment

AGENCY: Federal Emergency Management Agency, DHS.

ACTION: Notice.

SUMMARY: The Federal Emergency Management Agency (FEMA) is submitting a request for review and approval of a collection of information under the emergency processing procedures in Office of Management and Budget (OMB) regulation 5 CFR 1320.13. FEMA is requesting that this information collection be approved by June 1, 2012. The approval will authorize FEMA to use the collection through December 1, 2012. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

DATES: Comments must be submitted to OMB on or before June 14, 2012. You may submit comments to FEMA on or before July 16, 2012.

ADDRESSES: Submit written comments on the proposed information collection to the Office of Information and Regulatory Affairs, Office of Management and Budget. Comments should be addressed to the Desk Officer for the Department of Homeland Security, Federal Emergency Management Agency, (Proposed New Information Collection—The Declaration Process: Requests for Damage Assessment, Federal Disaster Assistance, Appeals, Cost Share Adjustment) and sent via electronic mail to oira.submission@omb.eop.gov or faxed to (202) 395-5806. Comments may also be submitted to the following:

(1) Online. Submit comments at www.regulations.gov under Docket ID FEMA-2012-0020. Follow the instructions for submitting comments.

(2) Mail. Submit written comments to Regulatory Affairs Division, Office of Chief Counsel, DHS/FEMA, 500 C Street SW., Room 835, Washington, DC 20472-3100.

(3) Facsimile. Submit comments to (703) 483-2999.

(4) Email. Submit comments to FEMA-POLICY@dhs.gov. Include Docket ID FEMA-2012-0020 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Requests for additional information or copies of the information collection should be made to Director, Records Management Division, Office of the Chief Administrative Officer, Mission Support Bureau, Federal Emergency Management Agency, 1800 South Bell Street Arlington, VA 20598-3005, facsimile number (202) 646-3347, or at email address FEMA-Information-Collections@dhs.gov.

SUPPLEMENTARY INFORMATION: The Robert T. Stafford Disaster Relief and Emergency Assistance Act, 42 U.S.C. 5121-5207 (the Act), requires that all requests for a declaration by the President that a major disaster or emergency exists shall be made by the Governor of the affected State. Section 401 of the Act stipulates that such a request shall be based on a finding that the disaster is of such severity and magnitude that effective response is beyond the capabilities of the State and the affected local government, and that Federal assistance is necessary. Section 401 of the Act further stipulates that as a part of such request, and as a prerequisite to major disaster assistance under the Act, the Governor shall take appropriate response action under State law and direct the execution of the State's emergency plan and shall furnish specific information that must be included in a request for a major disaster declaration. Section 401 of the Act stipulates that the request must include specific information on the nature and amount of State and local resources which have been or will be committed to alleviate the results of the disaster. In the event that a Governor's request for supplemental Federal assistance is denied, the Governor may appeal this denial under the provisions set forth in 44 CFR 206.46.

Collection of Information:

Title: The Declaration Process: Requests for Damage Assessment, Federal Disaster Assistance, Appeals, Cost Share Adjustment.

Type of Information Collection: Extension, without change, of a currently approved information collection.

OMB Number: 1660-0009.

Abstract: This collection includes a new FEMA Form 010-0-13, Request for Presidential Disaster Declaration Major Disaster or Emergency which asks for the same data that were stated and required in the previous narrative Governor's requests to the President requesting for supplemental Federal assistance. When a disaster occurs in a State, the Governor of the State or the Acting Governor in his/her absence, may request a major disaster declaration or an emergency declaration. The Governor should submit the request to the President through the appropriate Regional Administrator to ensure prompt acknowledgement and processing. The information obtained by joint Federal, State, and local preliminary damage assessments will be analyzed by FEMA regional senior level staff. The regional summary and the regional analysis and recommendation shall include a discussion of State and local resources and capabilities, and other assistance available to meet the disaster related needs. The Administrator of FEMA provides a recommendation to the President and also provides a copy of the Governor's request. In the event the information required by law is not contained in the request, the Governor's request cannot be processed and forwarded to the White House. In the event the Governor's request for a major disaster declaration or an emergency declaration is not granted, the Governor may appeal the decision.

Affected Public: State, Local or Tribal Government.

Number of Respondents: 56.

Estimated Time per Respondent: 16.5 hours.

Estimated Total Annual Burden Hours: 11,088.

Estimated Cost: There are no recordkeeping, capital, start-up or maintenance costs associated with this information collection.

Frequency of Response: Annually.

Comments: Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide FEMA with a copy of your comments. FEMA will continue to accept comments from interested persons through July 16, 2012. Submit comments to the FEMA address listed in the FOR FURTHER INFORMATION CONTACT caption.

John G. Jenkins, Jr.,
Acting Director, Records Management Division, Office of the Chief Administrative Office, Mission Support Bureau, Federal Emergency Management Agency, Department of Homeland Security.

[FR Doc. 2012-11677 Filed 5-14-12; 8:45 am]

BILLING CODE 9111-23-P